OFFICE OF GOVERNMENT ETHICS

Submission for OMB Review; Comment Request: Revised Public Financial Disclosure Access Customer Service Survey

AGENCY: Office of Government Ethics (OGE).

ACTION: Notice.

SUMMARY: The Office of Government Ethics has submitted the proposed revised information collection form, the updated OGE Public Financial Disclosure Access Customer Service Survey as in this notice, to the Office of Management and Budget (OMB) for review and three-year extension of approval under the Paperwork Reduction Act.

DATES: Comments by the public and agencies on this information collection as proposed for revision should be received by February 6, 2002.

ADDRESSES: Comments should be sent to Joseph F. Lackey, Office of Information and Regulatory Affairs, Office of Management and Budget, New Executive Office Building, Room 10235, Washington, DC 20503; Telephone: 202-395-7316.

FOR FURTHER INFORMATION CONTACT: Mary T. Donovan at the U.S. Office of Government Ethics; Telephone: 202-208-8000, ext. 1185; TDD 202-208-8025; FAX 202-208-8038. A copy of the survey may be obtained, without charge, by contacting Ms. Donovan.

SUPPLEMENTARY INFORMATION: The Office of Government Ethics uses the Public Financial Disclosure Access Customer Service Survey (OGE) form to assess requester satisfaction with the service provided by OGE in responding to requests by members of the public for access to copies of Standard Form (SF) 278 Executive Branch Personnel Public Financial Disclosure Reports on file with OGE. Most of the SF 278 reports available at OGE are those filed by executive branch Presidential appointees subject to Senate confirmation. Requests for access to SF 278 reports are made pursuant to the special public access provision of section 105 of the Ethics in Government Act of 1978 (the Ethics Act), as codified at 5 U.S.C. appendix 105, and procedures in 5 CFR 2634.603 of OGE's executive branchwide regulations thereunder, by completing an OGE Form 201, “Request to Inspect or Receive Copies of SF 278 Executive Branch Personnel Public Financial Disclosure Report or Other Covered Record.”

The Office of Government Ethics distributes the survey form to requesters along with copies of requested SF 278 reports. Those who choose to respond can complete and return the survey to OGE via the self-contained postage-paid postcards (the reverse side of the survey form, when folded, becomes a pre-addressed postcard). The purpose of this anonymous survey is to determine through customer responses how well OGE is responding to such requests and how OGE can improve its customer service in this important area. The current paperwork approval for the survey form is scheduled to expire at the end of January 2002.

On June 18, 2001, OGE issued its first round Federal Register notice to announce its forthcoming request to OMB for paperwork renewal of the customer service survey form. See 66 FR 32823-32824 with comments due by September 4, 2001. (OGE did not receive any comments or requests for copies of the customer service survey form). In that notice, and this one, OGE has proposed minor changes to survey question 4 to achieve greater clarity. That question currently asks whether OGE's requirement to fax or mail requests that involve more than six filers creates a problem for the requester. Based on an analysis of customer responses to question 4, OGE believes that the following statement should be added: “SKIP this question if your request involved six or fewer filers.” Additionally, one of the three requested responses to question 4, “Not Applicable,” is being changed to “My request did not have to be faxed or mailed.”

Pursuant to the Paperwork Reduction Act, OGE has not included in its public burden estimate for the survey form the limited number of access requests filed by other Federal agencies or Federal employees. Nor has OGE included in that estimate the limited number of requests for copies of other records covered under the special Ethics Act public access provision (such as certificates of divestiture) since the survey is only sent to persons who request copies of SF 278 reports. As so defined, the total number of access survey forms for copies of SF 278s estimated to be filed annually at OGE over the next three years by members of the public (primarily by news media representatives, public interest group members and private citizens) is 50. This estimate is based on a calculation of the number of survey forms received at OGE between April 1999 and June 2001 (70 surveys). This number also takes into account the increase in the number of public requests experienced as a result of the transition and the new Presidential administration. The estimated average amount of time to read the instructions on the proposed revised customer service survey form, and to complete the form remains at three minutes. Thus, the overall estimated annual public burden for the OGE Public Financial Disclosure Access Customer Service Survey as proposed for revision will be three hours (rounded up from two and a half hours(= 50 forms × 3 minutes per form)).

In this second round notice, public comment is again invited on all aspects of OGE's customer service survey form as proposed for renewal with minor revision, including specifically views on: the accuracy of OGE's public burden estimate; the potential for enhancement of quality, utility, and clarity of the information to be collected; and the minimization of burden (including the possibility of use of information technology). The Office of Government Ethics, in consultation with OMB, will consider all comments received, which will become a matter of public record.

Approved: December 31, 2001.
Amy L. Comstock,
Director, Office of Government Ethics.

[FR Doc. 02-327 Filed 1-4-02; 8:45 am]

BILLING CODE 6345-01-P